ENVIRONMENTAL PROTECTION AGENCY

40 CFR Part 52

[EPA-R04-OAR-2005-0534; FRL-8725-3]

Approval and Promulgation of Implementation Plans North Carolina: Prevention of Significant Deterioration and Nonattainment New Source Review Rules; Extension of Comment Period

AGENCY: Environmental Protection Agency (EPA).

ACTION: Extension of public comment period.

SUMMARY: EPA is extending the comment period for a proposed rule published September 9, 2008 (73 FR 52226). On September 9, 2008, EPA proposed to approve revisions to the North Carolina State Implementation Plan (SIP) submitted by the State of North Carolina in three submittals dated November 30, 2005, March 16, 2007, and June 20, 2008. The proposed revisions modify North Carolina's Prevention of Significant Deterioration and Nonattainment New Source Review permitting regulations in the SIP to address changes to the federal New Source Review (NSR) regulations, which were promulgated by EPA on December 31, 2002, and reconsidered with minor changes on November 7, 2003 (collectively, these two final actions are referred to as the “2002 NSR Reform Rules”). In addition, the proposed revisions address an update to the NSR regulations promulgated by EPA on November 29, 2005 (“Ozone Implementation NSR update”) relating to the implementation of the 1997 8-hour ozone National Ambient Air Quality Standards (NAAQS). At the request of several commentors, EPA is extending the comment period through November 10, 2008.

DATES: Written comments must be received on or before November 10, 2008.

ADDRESSES: Comments should be submitted to: Ms. Yolanda Adams, Air Permits Section, Air Planning Branch, Air, Pesticides and Toxics Management Division, U.S. Environmental Protection Agency, Region 4, 61 Forsyth Street, SW., Atlanta, Georgia 30303-8960. Telephone number: (404) 562-9214; e-mail address: adams.yolanda@epa.gov. Additional instructions to comment can be found in the notice of proposed rulemaking published September 9, 2008 (73 FR 52226).

FOR FURTHER INFORMATION CONTACT: For information regarding the North Carolina State Implementation Plan, contact Ms. Nacosta Ward, Regulatory Development Section, Air Planning Branch, Air, Pesticides and Toxics Management Division, U.S. Environmental Protection Agency, Region 4, 61 Forsyth Street, SW., Atlanta, Georgia 30303-8960. Telephone number: (404) 562-9140; e-mail address: ward.nacosta@epa.gov. For information regarding New Source Review, contact Ms. Yolanda Adams, Air Permits Section, at the same address above. Telephone number: (404) 562-9214; e-mail address: adams.yolanda@epa.gov.

Dated: September 26, 2008.
J. I. Palmer, Jr.,
Regional Administrator, Region 4.

[FR Doc. E8-23553 Filed 10-3-08; 8:45 am]

BILLING CODE 6560-50-P